FEDERAL COMMUNICATIONS COMMISSION

[FR ID 123514]

Open Commission Meeting Thursday, January 26, 2023

January 19, 2023.

The Federal Communications Commission will hold an Open Meeting on the subjects listed below on Thursday, January 26, 2023, which is scheduled to commence at 10:30 a.m. in the Commission Meeting Room of the Federal Communications Commission, 45 L Street NE, Washington, DC. While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety & Homeland Security | Title: Ensuring the Reliability and Resiliency of the 988 Suicide & Crisis Lifeline (PS Docket No. 23-5), New Part 4 of the Commission's Rules Concerning Disruptions to Communications (PS Docket No. 15-80); Implementation of the National Suicide Hotline Improvement Act of 2018 (WC Docket No. 18-336).
|  | Summary: The Commission will consider a Notice of Proposed Rulemaking that would consider establishing reporting and notice requirements for service outages potentially affecting the 988 Suicide & Crisis Lifeline.
2 | Wireline Competition | Title: Promoting Telehealth and Telemedicine in Rural America (WC Docket 17-310). Summary: The Commission will consider an Order on Reconsideration, Second Report and Order, Order, and Second Further Notice of Proposed Rulemaking which would rescind rules requiring support for the Rural Health Care Telecommunications Program to be calculated using a database, improve processes for invoicing and program caps, and propose additional enhancements to calculations of support and a mechanism to allow the participation of newly-eligible health care providers.
3 | Media | Title: Restricted Adjudicatory Matter. Summary: The Commission will consider a restricted adjudicatory matter.
4 | Enforcement | Title: Enforcement Bureau Action. Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-01604 Filed 1-26-23; 8:45 am]

BILLING CODE 6712-01-P